FEDERAL COMMUNICATIONS COMMISSION

[Report No. AUC-02-32-H (Auction No. 32); DA 02-2757]

Additional Information Required for Completion of FCC Form 175 and Exhibits for Auction No. 32; Auction of Construction Permits for New AM Broadcast Stations Scheduled for December 10, 2002

AGENCY: Federal Communications Commission.

ACTION: Notice.

SUMMARY: This document supplements a public notice released November 19, 1999, which announced a five-day period for the filing of applications for new AM stations and major modifications to authorized AM stations. The document informs applicants of additional information for incorporation as part of their short-form application (FCC form 175) for Auction No. 32.

DATES: Auction No. 32 applicants must file the additional information identified in this document by 6 p.m. e.t. on Monday, October 28, 2002. Auction No. 32 is scheduled to begin on December 10, 2002.

FOR FURTHER INFORMATION CONTACT: Kenneth Burnley at the Auctions and Industry Analysis Division, Wireless Telecommunications Bureau at (202) 418-0660.

SUPPLEMENTARY INFORMATION: This is a summary of a public notice released by the Wireless Telecommunications Bureau on October 21, 2002. The complete text of the public notice, including the attachment, is available for public inspection and copying during regular business hours at the FCC Reference Information Center, Portals II, 445 12th Street, SW., Room CY-B402, Washington, DC 20554. The October 21, 2002, public notice may also be purchased from the Commission's duplicating contractor, Qualex International, Portals II, 445 12th Street, SW., Room CY-B402, Washington, DC 20554, telephone (202) 863-2893, facsimile (202) 863-2898, or via e-mail qualexint@aol.com.

1. The Media Bureau (“MB”) and the Wireless Telecommunications Bureau (“WTB”) (collectively, “Bureaus”) supplement the “Auction No. 32 Filing Window Public Notice” released November 19, 1999, which announced a five-day period for the filing of applications for new AM stations and major modifications to authorized AM stations. This document informs applicants that they must submit additional information for incorporation as part of their short-form application (FCC form 175) for Auction No. 32. The applicants, listed in attachment A of the October 21, 2002, public notice, must file the additional information identified below by 6 p.m. eastern time on Monday, October 28, 2002. The following instructions are provided for filing this additional information.

I. Provisions Regarding Defaulters and Former Defaulters (Form 175 Exhibit F)

2. Part 1 of the Commission's rules requires each applicant to certify on its FCC form 175 application that neither it nor its controlling interest holders or affiliates is in default on any Commission license and that they are not delinquent on any non-tax debt owed to any Federal agency. In addition, the Commission's rules, as amended by the “Part 1 Fifth Report and Order,” 65 FR 52323 (August 29, 2000), require each applicant to attach to its FCC form 175 application a statement made under penalty of perjury indicating whether or not the applicant, or any of the applicant's controlling interests or their affiliates, as defined by § 1.2110 of the Commission's rules, have ever been in default on any Commission license or have ever been delinquent on any non-tax debt owed to any federal agency. See 47 CFR 1.2105(a)(2)(xi).

3. The applicants identified in attachment A of the October 21, 2002, public notice must include this statement as exhibit F of their FCC form 175 for Auction No. 32 and MUST submit this exhibit by electronic mail no later than 6 p.m. eastern time on Monday, October 28, 2002, at the following address: auction32@fcc.gov. The exhibit F must be in the form of an attachment to the electronic mail and formatted as an Adobe® Acrobat® (pdf) or Microsoft® Word document.

4. If any of an applicant's controlling interest holders or affiliates, as defined by § 1.2110 of the Commission's rules, have ever been in default on any Commission license or have ever been delinquent on any non-tax debt owed to any Federal agency, the applicant must include such information as part of the same attached statement. Applicants are reminded that the statement must be made under penalty of perjury and, further, submission of a false certification to the Commission is a serious matter that may result in severe penalties, including monetary forfeitures, license revocations, exclusion from participation in future auctions, and/or criminal prosecution.

5. “Former defaulters”—i.e., applicants, including their attributable interest holders, that in the past have defaulted on any Commission licenses or been delinquent on any non-tax debt owed to any Federal agency, but that have since remedied all such defaults and cured all of their outstanding non-tax delinquencies—will be eligible to bid in Auction No. 32, provided that they are otherwise qualified. However, former defaulters are required to pay upfront payments that are fifty percent more than the normal upfront payment amounts. See 47 CFR 1.2106(a).

II. FCC Registration Number Required To Log On to the FCC Auction 175 Application & Search System

6. Bidders are reminded that they are required to send their FCC Registration Number (FRN) to the FCC Operations Group by 5 p.m. eastern time on Friday, October 25, 2002. To do this, applicants must include the entity name, Taxpayer Identification Number (TIN), and FRN in an e-mail to auction32@fcc.gov or fax to Kathryn Garland at (717) 338-2850. This information must be received by 5 p.m. eastern time on Friday, October 25, 2002.

7. Use of an FRN is mandatory for all filers logging on to the FCC Auctions 175 Application & Search system. To obtain an FRN, an applicant must register its TIN using the Commission Registration System (CORES). To access CORES, point a web browser to the FCC Auctions page at http://wireless.fcc.gov/auctions/ and click the CORES link under Related Sites. Next, follow the directions provided to register and receive your FRN. Applicants need to be sure to retain this number and password and keep such information strictly confidential.

Federal Communications Commission.
Margaret Wiener,
Chief, Auctions and Industry Analysis Division, WTB.

[FR Doc. 02-28706 Filed 11-8-02; 8:45 am]

BILLING CODE 6712-01-U